DEPARTMENT OF THE TREASURY

Submission for OMB Review; Comment Request

November 17, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before December 27, 2000 to be assured of consideration.

Internal Revenue Service (IRS)

OMB Number: 1545-0949.

Form Number: IRS Form 2587.

Type of Review: Extension.

Title: Application for Special Enrollment Examination.

Description: This information relates to the determination of the eligibility of individual seeking enrollment status to practice before the Internal Revenue Service.

Respondents: Individuals or households.

Estimated Number of Respondents: 8,000.

Estimated Burden Hours Per Respondent: 6 minutes.

Frequency of Response: Other (one-time filing).

Estimated Total Reporting Burden: 800 hours.

OMB Number: 1545-1145.

Form Number: IRS Form 706-GS(T) and Schedules A and B.

Type of Review: Extension.

Title: Generation-Skipping Transfer Tax Return For Terminations.

Description: Form 706-GS(T) is used by trustees to compute and report the Federal Generation-Skipping Tax (GST) tax imposed by Internal Revenue Code (IRC) section 2601. IRS uses the information to enforce this tax and to verify that the tax has been properly computed.

Respondents: Individuals or households.

Estimated Number of Respondents/Recordkeepers: 100.

Estimated Burden Hours Per Respondent/Recordkeeper:

Form | Recordkeeping (minutes) | Learning about the law or the form (minutes) | Preparing the form (minutes) | Copying, assembling, and sending the form to the IRS (minutes)
705-GS(T) | 39 | 32 | 32 | 20
Schedule A | 13 | 13 | 37 | 20
Schedule B | 13 | 9 | 19 | 20

Frequency of Response: Annually.

Estimated Total Reporting/Recordkeeping Burden: 702 hours.

OMB Number: 1545-1558.

Revenue Procedure Number: Revenue procedure 97-43.

Revenue Ruling Number: Revenue ruling 97-39.

Type of Review: Extension.

Title: Procedures for Electing Out of Exemptions Under Section 1.475(c)-1 (97-53); and Mark-to-Market Accounting Method for Dealers in Securities (97-39).

Description: Revenue procedure 97-43 provides taxpayers automatic consent to change to mark-to-market accounting for securities after the taxpayer elects under section 1.475(c)-1, subject to specified terms and conditions. Revenue Ruling 97-39 provides taxpayers additional mark-to-market guidance in a questions and answer format.

Respondents: Business or other for-profit.

Estimated Number of Reporting: 200.

Estimated Burden Hours Per Respondent: 5 hours.

Estimated Total Reporting Burden: 1,000 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 00-30067 Filed 11-24-00; 8:45 am]

BILLING CODE 4830-01-U